DEPARTMENT OF LABOR

Office of Disability Employment Policy

[OMB Number 1230-0002]

Solicitation of Nominations for the Secretary of Labor's New Freedom Initiative Award

The Secretary of Labor's New Freedom Initiative Award presented by Secretary Elaine L. Chao, United States Department of Labor, 200 Constitution Avenue, NW., Washington, DC 20210:

1. Subject: The Secretary of Labor's New Freedom Initiative Award.

2. Purpose: To outline the eligibility criteria, the nomination process and the administrative procedures for the New Freedom Initiative Award, and to solicit the Secretary of Labor's New Freedom Initiative Award nominations.

3. Originator: Office of Disability Employment Policy (ODEP).

4. Background: To encourage the use of public-private partnerships, the Secretary of Labor will present the Secretary of Labor's New Freedom Initiative Award. Initiated in 2002, this award is made annually to individual(s), non-profit organization(s), or business(es), including small businesses, that have, through programs or activities, demonstrated exemplary and innovative efforts in furthering the employment objectives of President George W. Bush's New Freedom Initiative. See http://www.whitehouse.gov/news/freedominitiative/freedominitiative.html. By increasing access to assistive technologies, and by utilizing innovative training, hiring, and retention strategies, the recipient(s) will have established and instituted comprehensive strategies to enhance the ability of Americans with disabilities to enter and advance within the 21st Century workforce and to participate in daily community life.

5. Eligibility Criteria: The following criteria apply to the New Freedom Initiative Award Nominees:

A. The nominees must be individuals, businesses, or non-profit organizations whose activities exemplify the goals of President George W. Bush's New Freedom Initiative, which include the Office of Disability Employment Policy's mission of increasing employment opportunities for youth and adults with disabilities. Nominations may be submitted by other persons and entities with the knowledge and permission of the nominee. Self-nomination is also encouraged.

B. Nominees must have developed and implemented a multi-faceted program directed toward increasing employment opportunities for people with disabilities through increased access to assistive technologies, and use of innovative training, hiring, and retention techniques.

C. Federal, State and local government organizations are not eligible for this award.

6. Nomination Submission Requirements:

A. The single program or multiple programs for which the individual or company is being nominated must demonstrate a commitment to people with disabilities, and clearly show measurable results in terms of significantly enhancing employment opportunities for people with disabilities. The programs or activities may also address such issues as the widening skills gap among persons with disabilities, a diversified 21st Century workforce, and discrimination based on disability.

B. The nomination packages should be limited to only that information relevant to the nominee's program(s). Nomination packages should be no longer than twenty (20) typed pages double-spaced. A page is 8.5″ × 11″ (on one side only) with one-inch margins (top, bottom, and sides).

C. Nomination packages must include the following for consideration:

1. An executive summary prepared by or on behalf of the nominee, which clearly identifies the specific activities, program(s), or establishment under nomination and fully describes the results achieved.

2. A full description of the specific activities, program(s), or establishment for which the nomination is being submitted.

3. Specific data on training, placements, resources expended and other relevant information that will facilitate evaluation of the nominee's submission.

4. A description of how the program(s) and/or activities that are the subject of the nomination have had a positive and measurable impact on the employment of people with disabilities.

5. A data summary on the nominee. See Section 6(D).

6. A report detailing any unresolved violations of State or Federal law, as determined by compliance evaluations, complaint investigations, or other Federal inspections and investigations. In addition, the nominee must report any pending Federal or State enforcement actions, and any corrective actions or consent decrees that have resulted from litigation under the Americans with Disabilities Act (ADA) or the laws enforced by the Department of Labor (DOL).

D. A data summary on the Nominee will include the following:

1. Name(s) of the individual, organization or business being nominated.

2. Full street address, telephone number and e-mail address where applicable.

3. Name of highest ranking official(s) (where appropriate).

4. Name of executive(s) responsible for human resources, equal employment opportunity, and/or disability awareness at nominee's establishment and/or corporate office (where appropriate).

5. Name of parent company (where appropriate).

6. Name, street address, telephone number and email address of CEO or President of parent company (where appropriate).

7. Name, title, street address, telephone number and e-mail address of a contact person.

8. Number of employees at the establishment or business being nominated (where appropriate).

9. Name and description of principal program(s) or service(s).

E. Timing and Acceptable Methods of Submission of Nominations:

Nomination packages must be submitted to Secretary of Labor's New Freedom Initiative Award, Office of Disability Employment Policy, Room S-1303, 200 Constitution Avenue, NW., Washington, DC 20210 by May 27, 2005. Any application received after 4:45 p.m. EDT on May 27, 2005, will not be considered unless it was received before the award is made and:

1. It was sent by registered or certified mail no later than May 22, 2005.

2. It is determined by the Government that the late receipt was due solely to mishandling by the Government after receipt at the U.S. Department of Labor at the address indicated; or

3. It was sent by U.S. Postal Service Express Mail Next Day Service—Post Office to Addressee, not later than 5 p.m. at the place of mailing, May 25, 2005.

The only acceptable evidence to establish the date of mailing of a late application sent by registered or certified mail is the U.S. Postal Service postmark on the envelope or wrapper and on the original receipt from the U.S. Postal Service. If the postmark is not legible, an application received after the above closing time and date will be processed as if mailed late. “Postmark” means a printed, stamped, or otherwise placed impression (not a postage meter machine impression) that is readily identifiable without further action as having been applied and affixed by an employee of the U.S. Postal Service on the date of mailing. Therefore, applicants should request that the postal clerk place a legible hand cancellation “bull's-eye” postmark on both the receipt and the envelope or wrapper.

The only acceptable evidence to establish the time of receipt at the U.S. Department of Labor is the date/time stamp of the Office of Disability Employment Policy on the application wrapper or other documentary evidence or receipt maintained by that office.

Applications sent by other delivery services, such as Federal Express, UPS, e-mail, etc., will also be accepted; however, the applicant bears the responsibility of timely submission.

Confirmation of receipt of your application can be made by contacting Dina Dorich of the Office of Disability Employment Policy, telephone (202) 693-7880, (866) ODEP-DOL, TTY (202) 693-7881, prior to the closing deadline.

7. The Administrative Review Process:

A. The ODEP Steering Committee will perform preliminary administrative review to determine the sufficiency of all submitted application packages.

B. An Executive Evaluation Committee made up of representatives appointed by the Assistant Secretary of Labor, Office of Disability Employment Policy, from Department of Labor employees will perform secondary review.

C. The Secretary of Labor will conduct the final review and selections.

8. Other Factors to be Considered During the Administrative Review Process:

A. If a nominee merges with another company during the evaluation process, only that information relative to the nominated company will be evaluated, and the award, if any, will be limited to the nominated company.

B. Prior receipt of this award will not preclude a nominee from being considered for the New Freedom Initiative Award in subsequent years. Programs and activities serving as the basis of a prior award, however, may not be considered as the basis for a subsequent award application.

9. Procedures Following Selection:

A. Awardees will be notified of their selection via the contact person identified in the application package at least six weeks prior to the awards ceremony. Non-selected nominees will also be notified within 45 days of the selection of the awardees.

B. As a precondition to acceptance of the award, the nominee agrees to:

1. Submit to ODEP for review a two-minute video of the program(s) or activity(ies) for which it is being recognized within 30 days of notification of award selection;

2. Participate in any New Freedom Initiative workshops hosted by ODEP in conjunction with or within 12 months following the awards ceremony.

C. The awardee may also display an exhibit or showcase of the program(s)/activity(ies) for which it is being recognized at the awards ceremony, with contents of the display submitted to ODEP for review within 30 days of notification of award selection.

D. Materials developed by the awardees in conjunction with Section 11(B) and (C) will be subject to legal review at the Department of Labor to ensure compliance with applicable ethics standards.

10. Location: The awards ceremony will generally be held during the month of October at a location to be determined by the Secretary of Labor.

Paperwork Reduction Act Notice (Pub. L. 104-13): Persons are not required to respond to a collection of information unless it displays a currently valid Office of Management and Budget (OMB) control number. This collection of information is approved under OMB Number 1230-0002 (Expiration Date: 12/31/05). The obligation to respond to this information collection is voluntary; however, only nominations that follow the nomination procedures outlined in this notice will receive consideration. The average time to respond to this information of collection is estimated to be 10 hours per response; including the time for reviewing instructions, researching existing data sources, gathering and maintaining the data needed, and completing and reviewing the collection of information. Submit comments regarding this estimate; including suggestions for reducing response time to the U.S. Department of Labor, Office of Disability Employment Policy, Room S-1303, 200 Constitution Avenue NW., Washington DC 20210. Please reference OMB Number 1230-0002.

We are very interested in your thoughts and suggestions about your experience in preparing and filing this nomination packet for the Secretary of Labor's New Freedom Initiative Award. Your comments will be very useful to the Office of Disability Employment Policy in making improvements in our solicitation for nominations for this award in subsequent years. All comments are strictly voluntary and strictly private. We would appreciate your taking a few minutes to tell us—for example, whether you thought the instructions were sufficiently clear; what you liked or disliked; what worked or didn't work; whether it satisfied your need for information or if it didn't, or anything else that you think is important for us to know. Your comments will be most helpful if you can be very specific in relating your experience.

We value your comments, and would really like to hear from you. Please send any comments you have to Dina Dorich at dorich.dina@dol.gov or via mail to the Office of Disability Employment Policy, Room S-1303, 200 Constitution Avenue, NW, Washington, DC 20210.

Thank you.

Signed at Washington, DC, the 1st of February, 2005.
W. Roy Grizzard, Jr.,
Assistant Secretary, Office of Disability Employment Policy.

[FR Doc. 05-2498 Filed 2-9-05; 8:45 am]

BILLING CODE 4510-30-P